DEPARTMENT OF ENERGY

Bonneville Power Administration

Walla Walla Basin Spring Chinook Hatchery Program

AGENCY: Bonneville Power Administration (Bonneville), Department of Energy (DOE).

ACTION: Record of decision (ROD).

SUMMARY: This notice announces Bonneville's decision to implement the Proposed Action—Alternative 1—as described in the Walla Walla Basin Spring Chinook Hatchery Program Final Environmental Impact Statement (EIS) (DOE/EIS-0495, May 25, 2018). Bonneville will fund construction and operation of a spring Chinook hatchery at the existing South Fork Walla Walla Adult Holding and Spawning Facility in Umatilla County, Oregon, subject to the execution by both parties of the Memorandum of Agreement between the Confederated Tribes of the Umatilla Indian Reservation (CTUIR) and Bonneville for Construction of the Walla Walla Spring Chinook Hatchery. The hatchery will be owned and operated by the CTUIR and will have the capacity to incubate and rear up to 500,000 spring Chinook smolts for release in the Walla Walla River basin in north central Oregon and south central Washington State.

ADDRESSES: This ROD will be available to all interested parties and affected persons and agencies. It is being sent to all stakeholders who requested a copy. Copies of the Walla Walla Basin Spring Chinook Hatchery Program Draft and Final EIS and additional copies of this ROD are available from Bonneville's Public Information Center, P.O. Box 3621, Portland, OR 97208-3621. Copies of these documents may also be obtained by using Bonneville's nationwide toll-free document request line: 1-800-622-4520, or by accessing the project website at www.bpa.gov/goto/WallaWallaHatchery.

FOR FURTHER INFORMATION CONTACT: Chad Hamel, Supervisory Environmental Protection Specialist, Bonneville Power Administration—ECF-4, P.O. Box 3621, Portland, Oregon 97208-3621; toll-free telephone number 1-800-622-4519; fax number 503-230-5564; email cjhamel@bpa.gov.

SUPPLEMENTARY INFORMATION:

Background

Bonneville is a federal agency that markets power generated from the federal hydroelectric facilities on the Columbia River and its tributaries. Bonneville's operations are governed by several statutes, including the Northwest Power Act. The Northwest Power Act directs Bonneville to protect, mitigate, and enhance fish and wildlife affected by the development and operation of those federal hydroelectric facilities. To assist in accomplishing this, the Northwest Power and Conservation Council (Council) makes recommendations to Bonneville concerning which fish and wildlife projects to fund. The Council gives deference to project proposals developed by state and tribal fishery managers and has a three-step process for reviewing artificial propagation projects (i.e., hatcheries) which includes development of a Master Plan for the proposal as Step 1.

In 1987, the Northeast Oregon Hatchery Program (NEOH) was established as part of the Council's Columbia River Basin Fish and Wildlife Program. It was the initial artificial production planning effort by fishery co-managers for restoring anadromous fish runs in northeast Oregon, including the Walla Walla basin. The NEOH Program called for development of artificial production facilities which would produce between 2.3 and 3.0 million Chinook salmon and steelhead smolts designated for release into the Hood, Umatilla, Walla Walla, Grande Ronde, and Imnaha River basins and elsewhere. The proposed Walla Walla Basin Spring Chinook Hatchery Program and its Master Plan grew out of the NEOH Program.

In 2008, Bonneville, U.S. Army Corps of Engineers, and U.S. Bureau of Reclamation signed an agreement with the CTUIR and other Tribes to work as partners to provide tangible survival benefits for salmon recovery. The 2008 Columbia Basin Fish Accords Memorandum of Agreement between the Three Treaty Tribes and FCRPS Action Agencies (Fish Accords) includes an agreement to fund a spring Chinook hatchery in the Walla Walla basin, contingent on the favorable recommendation from the Council, completion of site-specific environmental review under the National Environmental Policy Act (NEPA), and compliance with other environmental laws. At that time, the CTUIR in cooperation with Oregon Department of Fish and Wildlife (ODFW), Washington Department of Fish and Wildlife (WDFW), and National Marine Fisheries Service (NMFS), managed and continues to manage a spring Chinook smolt and adult outplant program in the Walla Walla basin using out-of-basin stocks.

The CTUIR proposed the project because indigenous Walla Walla River spring Chinook were extirpated from the Walla Walla River basin in the early to mid-1900s, and recent reintroduction efforts have been unsuccessful in meeting basin goals. Spring Chinook raised at the proposed new hatchery would help meet Walla Walla basin goals to establish a naturally spawning population and augment populations for harvest. Supporting these spring Chinook recovery efforts would help Bonneville mitigate for the effects of the Federal Columbia River Power System (FCRPS) on fish.

The CTUIR submitted a master plan to construct and operate a hatchery for spring Chinook salmon in the Walla Walla River basin to the Council's Fish and Wildlife Program. As a part of the Council's 3-step process, and after undergoing review by the Independent Scientific Review Panel (ISRP), the Council recommended proceeding from step 1 to step 2. Bonneville determined that the proposal is consistent with the commitments made in the Fish Accords, and supports Bonneville's Fish and Wildlife Implementation Plan Environmental Impact Statement and Record of Decision policy direction, which calls for protecting weak stocks, while sustaining overall populations of fish for their economic and cultural value.

To meet obligations under NEPA, Bonneville prepared the Walla Walla Basin Spring Chinook Hatchery Program EIS; ODFW and the CTUIR were cooperating agencies. In May 2013, Bonneville issued a Notice of Intent to prepare an EIS. The draft EIS, based on the proposal in the Master Plan, was issued for public review in October 2014. Minor changes were made to the EIS in response to public comments, as well as to address refinements to the design of water supply structures and adjustments to water use requirements; the impacts of these changes were evaluated in the Final EIS. The Final EIS was issued in May 2018.

The CTUIR, ODFW, WDFW, NMFS, the U.S. Fish and Wildlife Service, and other managers of habitat, fisheries, and hatcheries in north central Oregon participated actively in development of the Proposed Action; and, along with other interested and affected agencies, organizations, and individuals, were consulted during the development of the EIS. Bonneville is issuing this ROD only for its own actions.

Alternatives Considered

The final EIS considered in detail two alternatives for the Proposed Action—Alternative 1 and Alternative 2—and the No Action Alternative. The final EIS identified Alternative 1 as the preferred alternative and also discussed other alternatives that were considered but eliminated from detailed study. The following summarizes the alternatives that were considered in detail in the EIS.

Proposed Action—Alternative 1

Under Alternative 1, Bonneville will fund the construction and operation of the Walla Walla hatchery and the CTUIR will expand its efforts to reintroduce spring Chinook into the Walla Walla River basin in Oregon and Washington State. The hatchery program will include development of a locally adapted broodstock and production of up to 500,000 spring Chinook smolts for release in tributaries throughout the basin, to increase harvest opportunities and natural production in the basin. The hatchery program includes the following activities:

• Construction and use of a hatchery at the existing South Fork Walla Walla Adult Holding and Spawning Facility.

• Collection of spring Chinook adults at Nursery Bridge Dam on the mainstem Walla Walla River and potentially at Dayton Adult Trap on the Touchet River to develop a locally adapted broodstock.

• Release of up to 400,000 smolts to the South Fork Walla Walla River and up to 100,000 smolts to the Touchet River.

• Planting of returning adults in selected tributaries in the Walla Walla basin.

New facilities at the South Fork Walla Walla site include a hatchery building that will house incubation facilities, circular rearing tanks for early rearing and grow-out, administrative offices, and a visitor center; a pumpback system that would be used as needed to return water from the pollution abatement pond to the river near the intake, in order to maintain minimum instream flows; a headbox; a shop; and three new residences. Existing piping will be modified and new piping added to distribute water supply and effluent, and the existing pollution abatement pond will be divided in half to improve discharges and increase ease of maintenance.

Most of the smolts produced would be released directly from the hatchery into the South Fork Walla Walla River; about 20% of the production would be direct-stream-released into the Touchet River, which is in the Washington State portion of the Walla Walla basin. Adults surplus to broodstock, escapement, and harvest needs would continue to be outplanted in Mill Creek and the Touchet subbasin as they are now.

The program is intended to provide in-basin Tribal and non-tribal harvest and to increase natural production of spring Chinook in the basin, and would be implemented in three phases that are expected to gradually increase the number of adult returns and the proportion of naturally produced adults in the broodstock. Research, monitoring, and evaluation (RM&E) of the status and distribution of spring Chinook in the Walla Walla basin (as well as steelhead and bull trout) is ongoing as a separate program, and will continue. The RM&E program identifies hatchery fish using PIT tags, fin-clips, and coded-wire tags to monitor their survival through various stages of their migration and their rate of survival to adults. Fish are also trapped at existing juvenile and adult traps throughout the basin, and spawning areas in the Walla Walla and Touchet rivers and Mill Creek are surveyed to count redds and estimate natural production. The RM&E program will help determine the success of the hatchery program and when it can move to the next phase.

Construction under Alternative 1 will comply with applicable regulatory requirements, permits, and guidance for protection of the environment and human wellbeing and safety, and will incorporate Best Management Practices such as erosion and dust control, waste management, weed management, restrictions on vegetation clearing during nesting season for migratory birds (March-August), and work-hour and noise restrictions. Instream work will be minimal and will be done during the state-specified in-water work window (July 1-August 15). The work area will be isolated behind a temporary cofferdam and fish will be collected and relocated outside the work area.

Alternative 1 incorporates special measures such as retaining as much native vegetation as possible; landscaping with native, drought-resistant plants; and installation of a pumpback system and real-time monitoring equipment to ensure that minimum instream flows are maintained. The modified water supply intake will meet NMFS screening requirements. Hatchery water discharge will comply with applicable regulations and standards, including applicable Total Maximum Daily Loads in the South Fork Walla Walla River. Effluent treatment systems will ensure that discharges do not adversely affect the receiving waters.

Alternative 2

Alternative 2 is similar to Alternative 1 except the hatchery would have been larger in order to accommodate the incubation and rearing of an additional 810,000 spring Chinook smolts currently produced at the Umatilla Hatchery near Irrigon, Oregon, which is experiencing water supply problems. Alternative 2 would have required a costly water reuse system in order to support the additional fish, but was expected to improve the fitness and survival of spring Chinook destined for the Umatilla basin.

No Action Alternative

Under the No Action Alternative, Bonneville would not have funded the Walla Walla Basin Spring Chinook Hatchery Program. No new facilities would be constructed, no new artificial propagation activities would be implemented, and no long-term in-basin source (natural or hatchery) of spring Chinook broodstock would be available for the Walla Walla River basin. The current release of out-of-basin smolts, funded under the Mitchell Act and by Bureau of Indian Affairs, and incorporated into the 2018-2027 U.S. v. Oregon Management Agreement, would be expected to continue for the foreseeable future. Spring Chinook for the Umatilla basin program would continue to be reared at Umatilla Hatchery as is currently done. Under this alternative, it is unlikely that a self-sustaining, naturally reproducing spring Chinook population could be established in the Walla Walla basin in harvestable numbers, due to the lack of a broodstock adapted to the basin; the current smolt release program results in low smolt-to-adult survival rates because smolts are reared out of the basin from out-of-basin broodstock.

Comments Received Since Issuance of the Final EIS

After the Final EIS was issued, Bonneville received comments from the U.S. Environmental Protection Agency (EPA) Region 10 in a letter dated July 2, 2018. The agency indicated that their comments on the Draft EIS had been addressed in the Final EIS. EPA's comments on the Draft EIS concerned water re-use and maintenance of instream flows; a request for additional information on time periods needed to reach Phase 3 goals of the hatchery production program; and a request to assess the adequacy of habitat improvements over the long term.

Rationale for Decision

In making its decision to implement the Proposed Action under Alternative 1, Bonneville considered and balanced a variety of relevant factors. Bonneville considered how well the action alternatives and the No Action Alternative would fit with its statutory missions and relevant policies and procedures. Bonneville also considered the environmental impacts described in the Final EIS, as well as public comments received throughout the NEPA process for the program.

Another consideration was the extent to which each alternative under consideration would meet the following Bonneville purposes (i.e., objectives) identified in the final EIS:

• Support efforts to mitigate for effects of the development and operation of the Federal Columbia River Power System on fish and wildlife in the mainstem Columbia River and its tributaries under the Northwest Power Act.

• Assist in carrying out commitments related to proposed hatchery actions that are contained in the 2008 Columbia Basin Fish Accords Memorandum of Agreement with the CTUIR and others.

• Implement Bonneville's Fish and Wildlife Implementation Plan EIS and ROD policy direction to protect weak stocks while sustaining fish populations for their economic and cultural value.

• Improve the fitness and survival of spring Chinook released in the Umatilla basin.

• Minimize harm to natural or human resources, including species listed under the Endangered Species Act.

After considering and balancing all of these factors, Bonneville has decided to fund the Walla Walla Basin Spring Chinook Hatchery Program, subject to the execution by both parties of the Memorandum of Agreement between the Confederated Tribes of the Umatilla Indian Reservation (CTUIR) and Bonneville for Construction of the Walla Walla Spring Chinook Hatchery. The Proposed Action was recommended to Bonneville for funding by the Council and is consistent with the Council's Fish and Wildlife Program. Providing funding for construction and operation of the hatchery under Alternative 1 supports a high-priority mitigation project in the Council's Fish and Wildlife Program. In addition, the Proposed Action under Alternative 1 meets the funding commitment for spring Chinook reintroduction made to the CTUIR in the Fish Accords and would protect weak stocks in the Walla Walla basin while reintroducing spring Chinook for additional harvest opportunities and cultural value to CTUIR and others. Under Alternative 1 of the Proposed Action, the fitness and survival of spring Chinook in the Umatilla basin would not be affected.

In planning and designing the hatchery, Bonneville, the CTUIR, project designers and other fish and wildlife agencies worked to minimize environmental and social impacts through project design, consultation with regulatory entities, and development of mitigation measures.

Impacts considered and fully disclosed in the final EIS include effects of hatchery withdrawals on flows in the South Fork Walla Walla River; water quality impacts of hatchery effluent discharge; impacts of hatchery construction, juvenile spring Chinook releases, and increasing numbers of returning spring Chinook adults on species such as bull trout and steelhead; the effects of additional fishing activities on private property owners; effects on habitat of vegetation removal; the potential of construction activity to spread noxious weeds; and visual changes associated with new structures.

Mitigation

All mitigation measures described in the Final EIS and the project Biological Opinions from NMFS and U.S. Fish and Wildlife Service have been adopted; a few were modified to describe the activity more specifically in order to ensure that contract language is clear. A complete list of these measures is presented in the project Mitigation Action Plan, available on the project website. All practicable means to avoid or minimize environmental harm are adopted.

Signed in Portland, Oregon, on August 22, 2018.
Elliot E. Mainzer,
Administrator and Chief Executive Officer.

[FR Doc. 2018-19214 Filed 9-4-18; 8:45 am]

BILLING CODE 6450-P